DEPARTMENT OF HOMELAND SECURITY

Private Sector Office, Office of Policy; Submission for Review; Disaster Recovery Survey for Businesses

AGENCY: Office of the Private Sector, Office of Policy, DHS.

ACTION: Notice; 30-day notice of information collections under review: various contract related forms, Post-Contract Award Information, Regulation on Agency Protests, and Solicitation of Proposal Information for Award of Public Contracts.

SUMMARY: The Department of Homeland Security (DHS) has submitted the following proposed information collection request (ICR) to the Office of Management and Budget (OMB) for review and clearance in accordance with the Paperwork Reduction Act of 1995: 1601-NEW. This notice and request for comments is required by the Paperwork Reduction Act of 1995.

DATES: Comments are encouraged and will be accepted until February 15, 2007. This process is conduced in accordance with 5 CFR 1320.10.

ADDRESSES: Interested persons are invited to submit written comments on the proposed information collection to the Office of Information and Regulatory Affairs, Office of Management and Budget. Comments should be addressed to Nathan Lesser, Desk Officer, Department of Homeland Security, Private Sector Office, and sent via electronic mail to oira_submission@omb.eop.gov or faxed to (202) 395-6974.

FOR FURTHER INFORMATION CONTACT: Gary Becker, Office of the Private Sector, Department of Homeland Security, Washington, DC 20528; telephone (202) 282-9013 (this is not a toll free number).

SUPPLEMENTARY INFORMATION: DHS previously published this information collection request (ICR) in the Federal Register on August 16, 2006, at 71 FR 47237, for a 60-day public comment period. The ICR addressed a written survey developed by the Office of Policy, Private Sector Office for DHS for distribution to business owners and managers impacted by a natural or man-made disaster. The survey contains general questions about losses incurred by reporting businesses as a result of the disaster, as well as progress made during initial recovery. All information will be compiled for analysis by DHS and reported only at the aggregate level. Results of the analysis will be used by DHS to gauge the economic impact of the disaster as well as the effectiveness of recovery efforts. Participation in the survey will be voluntary and also provides an opportunity for the private sector to inform DHS about major issues and concerns with the recovery process following a disaster. The survey is being developed as a generic survey that can be used following any form of disaster; including natural disasters, terrorist events, and pandemic influenza.

DHS received three comments during the 60-day public comment period for this ICR. The purpose of this notice is to allow an additional 30 days for public comments. This notice and request for comment is required by the Paperwork Reduction Act of 1995 (Pub. L. 104-13, 44 U.S.C. chapter 35).

DHS invites the general public to comment on the ICR. A copy of the survey can be obtained by contacting Gary Becker of the Private Sector Office (contact information provided in previous section).

DHS is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, Office of Policy, Private Sector Office.

Title: Disaster Recovery Survey for Businesses.

OMB No.: 1601-NEW.

Frequency: On occasion.

Affected Public: Employer and Non-employer Businesses.

Estimated Number of Respondents: 2,000 respondents.

Estimated Time Per Respondent: 18 minutes (15 minutes per written response with 30% chance for 10 minute telephone follow-up).

Total Burden Hours: 600.

Total Burden Cost: (capital/startup): None.

Total Burden Cost: (operating/maintaining): None.

Scott Charbo,
Chief Information Officer.

[FR Doc. E7-387 Filed 1-12-07; 8:45 am]

BILLING CODE 4410-10-P